DEPARTMENT OF TRANSPORTATION

Federal Transit Administration

Transfer of Federally Assisted Land or Facility

AGENCY: Federal Transit Administration, DOT.

ACTION: Notice of intent to transfer Federally assisted land or facility.

SUMMARY: Section 5334(h) of the Federal Transit Laws, as codified, 49 U.S.C. 5301, et seq., permits the Administrator of the Federal Transit Administration (the “FTA”) to authorize a recipient of FTA funds to transfer land or a facility to a public body for any public purpose with no further obligation to the Federal Government if, among other things, no Federal agency is interested in acquiring the asset for Federal use. Accordingly, FTA is issuing this Notice to advise Federal Agencies that the Wisconsin Department of Transportation intends to transfer a building to the City of Rice Lake (the “City”). This transfer also includes a 31% interest in the real property. The building is located at 326 South Main Street, Rice Lake, Wisconsin (hereinafter the “Building”).

DATES: Effective Date: Any Federal agency interested in acquiring the Facility must notify the FTA Region V Office of its interest by April 28, 2017.

ADDRESSES: Interested parties should notify the Regional Office by writing to Marisol R. Simón, Regional Administrator, Federal Transit Administration, 200 West Adams, Suite 320, Chicago, IL 60606.

FOR FURTHER INFORMATION CONTACT: Kathryn Loster, Regional Counsel, at 312-353-3869.

SUPPLEMENTARY INFORMATION:

Background

49 U.S.C. 5334(h) provides guidance on the transfer of assets no longer needed. Specifically, if a recipient of FTA assistance decides an asset acquired at least in part with federal assistance is no longer needed for the purpose for which it was acquired, the Secretary of Transportation may authorize the recipient to transfer the asset to a local governmental authority to be used for a public purpose with no further obligation to the Government. 49 U.S.C. 5334(h)(l).

Determinations

The Secretary may authorize a transfer for a public purpose other than public transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(l)(D). Accordingly, FTA hereby provides notice of the availability of the Facility further described below. Any Federal agency interested in acquiring the affected facility should promptly notify the FTA.

If no Federal agency is interested in acquiring the existing Facility, FTA will make certain that the other requirements specified in 49 U.S.C. 5334(h)(1)(A) through (C) are met before permitting the asset to be transferred.

The Building shares a 1.433-acre parcel zoned for general commercial use. It provides 159 feet of frontage along South Main Street, and has a depth of 459 feet along the south elevation. The site is bound on the south and west by Marketplace Foods, on the east by South Main Street, and on the north by an abandoned railroad line with a 9.5-foot wide right-of-way. Land along Main Street in close proximity to the Building is a mixture of single-tenant and multi-tenant commercial properties, primarily in the retail and food service sectors. The legal description is as follows: Outlots 149-1 and 149-6 being part of Outlot 149 as shown in Certified Survey Map Volume 6, Page 162 and part of railroad right-of-way as described in Deeds Volume 414, Page 736 of Outlots in the City of Rice Lake, Barron County, Wisconsin.

The Building has a total floor space of 27,130 square feet. It houses three spaces: (1) 4,839 Square feet of office space, including a meeting room break room, bathrooms and closets; (2) 4,808 square feet of shop space; and (3) 2,683 square feet of basement space, including storage and a bathroom. The Building is sited with minimal setback from the east and north property lines.

If no Federal agency is interested in acquiring the existing Facility, FTA will make certain that the other requirements specified in 49 U.S.C. Section 5334(h)(1)(A) through (C) are met before permitting the asset to be transferred.

Marisol Simón,
Regional Administrator, FTA Region V.

[FR Doc. 2017-06169 Filed 3-28-17; 8:45 am]

BILLING CODE P